DEPARTMENT OF HEALTH AND HUMAN SERVICES

Health Resources and Services Administration

Meeting of the National Advisory Council on Nurse Education and Practice

AGENCY: Health Resources and Services Administration (HRSA), Department of Health and Human Services (HHS).

ACTION: Notice.

SUMMARY: The National Advisory Council on Nurse Education and Practice (NACNEP or the Council) has scheduled a public meeting. Information about NACNEP and the agenda for this meeting can be found on the NACNEP website at https://www.hrsa.gov/advisory-committees/nursing/index.html.

DATES: November 19, 2018, 8:30 a.m.-4:15 p.m. ET.

ADDRESSES: This meeting will be held by teleconference and webinar. The conference call-in number is 1-888-455-0640; passcode: HRSA COUNCIL. The webinar link is https://hrsa.connectsolutions.com/nacnep/.

FOR FURTHER INFORMATION CONTACT: Tracy L. Gray, MBA, MS, RN, Division of Nursing and Public Health, Bureau of Health Workforce, HRSA, 5600 Fishers Lane, 11N112, Rockville, Maryland 20857; 301-443-3346; or DScott1@hrsa.gov.

SUPPLEMENTARY INFORMATION: NACNEP provides advice and recommendations to the Secretary of Health and Human Services (Secretary) and the U.S. Congress on policy matters arising in the administration of Title VIII of the Public Health Service (PHS) Act, as amended, including the range of issues relating to nurse supply, education, and practice improvements. NACNEP provides an annual report to the Secretary and Congress describing the activities of NACNEP, including findings and recommendations made by NACNEP concerning the activities under this title.

During the November 19, 2018, meeting, NACNEP will continue discussing areas where nursing can take the lead in the transition of the health care system to value-based care through improvements to nurse education and practice, to advance the development of its 15th Report. In addition, the members will discuss strategic priorities and future directions for the Council and discuss possible topics for its 16th Report. Agenda items are subject to change as priorities dictate. Refer to the NACNEP website for any updated information concerning the meeting.

Members of the public will have the opportunity to provide comments. Public participants may submit written statements in advance of the scheduled meeting. Oral comments will be honored in the order they are requested and may be limited as time allows. Requests to make oral comments or provide written statements to NACNEP should be sent to Ms. Tracy L. Gray, Designated Federal Official, using the contact information above at least 3 business days prior to the meeting.

Amy P. McNulty,
Acting Director, Division of the Executive Secretariat.

[FR Doc. 2018-23685 Filed 10-29-18; 8:45 am]

BILLING CODE 4165-15-P